SOCIAL SECURITY ADMINISTRATION

Statement of Organization, Functions and Delegations of Authority

This statement amends Part S and T of the Statement of the Organization, Functions and Delegations of Authority that covers the Social Security Administration (SSA). This notice establishes a new Human Capital Planning Staff at the Deputy Commissioner for Human Resources level. It deletes language from the Office of Workforce Analysis in the Office of the Chief Strategic Officer and adds that language to the Federal Register material for the Human Capital Planning Staff. It establishes the Executive and Special Services Staff as a separate Deputy Commissioner for Human Resources' organization. It also retitles and redescribes the functions of two Staffs in the Office of Personnel, i.e., the Project Management Staff (S7BH) and the Personnel Management Information Systems and Payroll Staff (S7BJ). It revises the Federal Register language for the Center for Personnel Policy and Staffing and, in addition, it establishes the Center for Employee Benefits in the Office of Personnel. It creates three centers in the Office of Training and three centers in the Office of Civil Rights and Equal Opportunity. It also amends the Office of the Strategic Officer subchapter to add the SAC Code “TJ” and to delete a function from that subchapter. The new material and changes are as follows:

Chapter S7

Office of the Deputy Commissioner, Human Resources

Section S7.00 The Office of the Deputy Commissioner, Human Resources—(Mission):

Add after the colon and before the words “personnel management”, “human capital and planning initiatives”.

Add the word “and” between the words “opportunity” and “training”.

Section S7.10 The Office of the Deputy Commissioner, Human Resources—(Organization):

The Office of the Deputy Commissioner, Human Resources, under the leadership of the Deputy Commissioner, Human Resources, includes:

Reletter:

D. to F.

E. to G.

F. to H.

G. to I.

Establish:

D. The Human Capital Planning Staff (S7J).

E. The Executive and Special Services Staff ( S7K).

Section S7.20 The Office of the Deputy Commissioner, Human Resources—(Functions):

Delete: From C, the Immediate Office of the Deputy Commissioner, paragraphs 2, 3, 4 and 5.

Reletter:

D. to F.

E. to G.

F. to H.

G. to I.

Add:

D. The Human Capital Planning Staff (S7J) provides leadership within DCHR and for the Agency in broad human resources policy areas related to workforce planning and management. The Staff ensures that the Agency's human resources policies and practices are aligned to support the accomplishment of the Agency's mission, vision, goals and strategies; improve hiring and retention strategies to ensure a workforce consistent with the Agency's needs; and create a continuous learning and performance culture that results in a highly productive workforce. The Human Capital Planning Staff provides direction and oversight to the development and integration of the Agency's human resources automated systems and advises the DCHR on matters pertaining to Government-wide automated human resources systems. The Staff continually monitors, analyzes and interprets workforce forecasting data and projects future workforce needs including the types of skills and positions needed. It also develops and implements Agency-wide initiatives, such as competitive sourcing, in support of the effective use of human capital.

E. The Executive and Special Services Staff (S7K) develops and implements all SSA policies and activities relating to the Agency's executive level personnel management program. Recruits for and places individuals in positions in the Senior Executive Service (SES) in accordance with OPM regulations. Provides staff support to the Executive Resources Board in administering a systematic program to manage SSA's executive and professional resources and ensuring the appropriate selection of candidates to participate in official executive development programs. Provides staff support to the Performance Review Board in reviewing performance plans and subsequent appraisals of career and non-career executives in SES and employees in equivalent level positions.

F. Office of Personnel. Delete from the sentence that reads: “The Office manages personnel programs in the following areas:” the “and” after “employee recognition” and before “health services”.

Add to that sentence: “employee benefits including health and retirement.”

Add as the last sentence in F:

“The office also develops and implements an SSA-wide program of Personnel Security and Suitability for employees and contractors and administers the SSA Drug Free Workplace program. It directs the development and operation of SSA's Workers' Compensation program, including SSA's Workers' Compensation Return to Work, Controversion and Investigations programs.”

Subchapter S7B

The Office of Personnel

Section S7B.00 The Office of Personnel—(Mission):

Add, after the first sentence, “It administers and provides counseling for retirement, health and other employee benefits programs.”

Add, beginning as the third sentence:

“The Office of Personnel also develops and implements an SSA-wide program of Personnel Security and Suitability for employees and contractors and administers the SSA Drug Free Workplace program. It directs the development and operation of SSA's Workers' Compensation program, including SSA's Workers' Compensation Return to Work, Controversion and Investigations programs.”

Section S7B.10 The Office of Personnel—(Organization):

The Office of Personnel under the Associate Commissioner, Office of Personnel, includes:

Reletter:

D. to E.

E. to F.

F. to G.

G. to H.

H. to I.

Establish:

D. The Center for Employee Benefits (S7BL).

Retitle E: The Project Management Staff (S7BH) to the Center for Personnel Security and Project Management (S7BH).

Retitle F: The Personnel Management Information Systems and Payroll Staff (S7BJ) to the Center for Personnel Management Information Systems and Payroll (S7BJ).

Section S7B.20 The Office of Personnel—(Functions):

Reletter:

D. to E.

E. to F.

F. to G.

G. to H.

H. to I.

Add:

D. The Center for Employee Benefits (S7BL) directs the Social Security Administration's Retirement and Health Benefits programs. The Center develops the agency's policy on these programs and provides interpretation and guidance to SSA's managers nation-wide. Expertise is provided to managers and employees on all Federal Benefit's Programs, including the Civil Service and Federal Employees' Retirement Systems, Thrift Savings Plan, Federal Employees' Health Benefit Plans, Federal Employees' Group Life Insurance, Flexible Spending Accounts and Long Term Care.

Retitle E, the Project Management Staff (S7BH) to the Center for Personnel Security and Project Management (S7BH).

Replace E in its entirety as follows:

1. Develops and implements an SSA-wide program of Personnel Security and Suitability for employees and contractors. Develops and implements SSA's National Security Program.

2. Directs the development and operation of SSA's Workers' Compensation program. Provides assistance to employees regarding claims for lost wages, settlement awards, notices of injury and required medical reports.

3. Provides assistance to employees regarding claims for lost wages, settlement awards, notices of injury and required medical reports.

4. Directs the development and operation of SSA's Workers' Compensation Return to Work, Controversion and Investigations programs.

5. Designs national policies for the SSA Drug Free Workplace program. Develops, implements and manages the day-to-day operation of SSA's drug testing program.

6. Conducts administrative surveys, special studies and projects of SSA-wide significance.

Retitle F, the Personnel Management Information Systems and Payroll Staff (S7BJ), to the Center for Personnel Management Information Systems and Payroll (S7BJ).

Delete from F, paragraph #1, in the first sentence, the words “record keeping”.

Delete the remainder of F, after paragraph #2, in its entirety. Add the following:

3. Designs business applications and administrative systems in the personnel arena, including workload management, action tracking and other management support systems. Manages the entire applications development process, including assessing user needs, developing system pilots, designing systems, testing systems, administering databases, training users, and evaluating overall system performance.

4. Evaluates, tests, installs and maintains agency applications software within the networking environment for compatibility with existing software, hardware and networks and serves as point of contact for equipment, software and operational problems and needs within OPE. Ensures the integrity of the LAN, as well as the completion of LAN operations.

5. Develops and provides guidance to SSA's managers, timekeepers and employees on the payroll and time and attendance processes throughout SSA. Is the first point of contact in headquarters on pay and leave issues. Manages the bi-weekly collection and processing of time and attendance data for all SSA employees.

6. Coordinates with the National Business Center in Denver, SSA's payroll provider, on all payroll-related operational, budget and developmental matters.

7. Conducts research on HR modernization, providing recommendations for improving the effectiveness and efficiency of various personnel functions and programs through automation. Performs continuing review of HR technology to bring best practices to personnel operations in SSA.

8. Represents the Agency on interagency workgroups to resolve crosscutting HR automation issues. Serves as liaison with OPM, SSA's payroll provider, and other Federal agencies and monitoring authorities.

9. Directs the design and development of and manages day-to-day operations in support of the Personnel intranet site at the agency level.

Add to H, the Center for Personnel Policy and Staffing (S7BE), paragraph #1, second sentence: “pay and” compensation.

Delete from the second sentence of paragraph #1: “appraisals and performance standards”.

Add to the second sentence of paragraph #1 after the word “staffing” and before the words “personnel information”: “employment and performance management and awards”.

Delete “management communications” from the second sentence of paragraph #1 after the words “disclosure and * * *.” Replace “management communications” with “personnel delegations”.

Delete the first sentence from paragraph #2: “Directs the development and operation of SSA performance and employee awards programs.”

Delete from the first sentence of paragraph #3: “implement policies and regulations”.

Add to the first sentence of paragraph #3: Develops “policies” and “implementing guidance”.

Add the word “all” to the second sentence of paragraph #3 after the word “processes” and before the word “personnel actions”.

Delete paragraph #6 in its entirety. Replace paragraph #6 with the following: “Establishes and maintains the Official Personnel Folders for SSA headquarters employees.”

Subchapter S7E

The Office of Civil Rights and Equal Opportunity

Section S7E.10 The Office of Civil Rights and Equal Opportunity—(Organization)

Retitle to read as follows: “The Office of Civil Rights and Equal Opportunity, under the leadership of the Associate Commissioner, Office of Civil Rights and Equal Opportunity”, includes:

Retitle A., from “The Director, Office of Civil Rights and Equal Opportunity (S7E)” to “The Associate Commissioner, Office of Civil Rights and Equal Opportunity (S7E).”

Retitle B., from “ The Immediate Office of the Director, Office of Civil Rights and Equal Opportunity (S7E)” to “ The Deputy Associate Commissioner, Office of Civil Rights and Equal Opportunity (S7E).”

Add:

C. The Immediate Office of the Associate Commissioner, Office of Civil Rights and Equal Opportunity (S7E).

D. The Center for Cultural Diversity (S7EC).

E. The Center for Complaints Processing (S7EE).

F. The Center for Disability Services (S7EG).

Section S7E.20 The Office of Civil Rights and Equal Opportunity—(Functions)

Replace in its entirety as follows:

A. The Associate Commissioner, Office of Civil Rights and Equal Opportunity (S7E) is directly responsible to the Deputy Commissioner, Human Resources for carrying out OCREO's mission and for providing general supervision to the major components of OCREO.

B. The Deputy Associate Commissioner, Office of Civil Rights and Equal Opportunity (S7E) assists the Associate Commissioner in carrying out his/her responsibilities and performs other duties as the Associate Commissioner prescribes.

C. The Immediate Office of the Associate Commissioner, Office of Civil Rights and Equal Opportunity (S7E) provides the Associate Commissioner and Deputy Associate Commissioner with staff assistance on the full range of their responsibilities.

D. The Center for Cultural Diversity (S7EC).

1. Provides leadership, direction and guidance to the headquarters and field organizations in the formulating and implementing of SSA policies, regulations and procedures pertaining to the development of sound affirmative employment and equal opportunity programs. Approves, on behalf of the Associate Commissioner, Office of Civil Rights and Equal Opportunity, affirmative employment program plans prepared by components and regions. Develops the overall SSA affirmative employment program plan.

2. Develops guidelines and procedures for effective OCREO program planning and monitoring throughout SSA. Develops recommendations on affirmative employment policy and operations for the Associate Commissioner for Civil Rights and Equal Opportunity.

3. Conducts and coordinates studies or analyses of SSA's human resources and operating policies and procedures to assess their EO impact.

4. Develops and tracks SSA's major initiatives that relate to EO and oversees their implementation.

5. Develops, implements, monitors and evaluates special recruitment plans, programs and projects for targeted equal opportunity groups.

6. Provides office automation support.

7. Administers the Federal Women's Program, Asian Pacific American Program, Hispanic Employment Program, Minority Concerns Program, and the American Indian and Alaska Native Program.

8. Provides central operational responsibility for EO functions and programs.

9. Administers the oversight of the EEO Advisory Groups.

E. The Center for Complaints Processing (S7EE)

1. Directs implementation and evaluation of the SSA Equal Employment Opportunity (EO) Discrimination Complaints Program and Alternative Dispute Resolution (ADR) Program for both Headquarters and the field. Provides advice, guidance and assistance to SSA officials concerning the discrimination complaints process and related management matters.

2. Provides leadership, guidance and direction in implementing SSA policies, regulations and procedures pertaining to the timely, accurate, fair and impartial processing of discrimination complaints throughout the Headquarters and field organizations. Formulates SSA policies, regulations and procedures pertaining to the EO discrimination complaints process and ADR process.

3. Provides overall direction regarding all aspects of SSA's discrimination complaints process and ADR process in order to ensure uniformity in complaints handling, resolutions and dispositions. Directs the preparation of guidelines on all complaints matters.

4. Receives and conducts inquiries and attempts resolution of informal complaints of discrimination. Advises complainants of their rights regarding the discrimination complaints process, ADR process and other related processes.

5. Receives and acknowledges formal complaints of discrimination and makes a determination whether to accept or dismiss the complaint/issue(s). Conducts investigations and oversees the process.

6. Prepares final Agency decisions on complaints of discrimination against SSA. Ensures compliance with any corrective or remedial action directed by SSA, the Equal Employment Opportunity Commission (EEOC) or any other agency having authority to so direct.

7. Develops litigation information and documentation for the Office of the General Counsel and the United States Attorney's Office in employment discrimination court suits filed against SSA. Prepares the Agency's briefs for complaints appealed to EEOC. Also, responds to interrogatories submitted in class complaints. Analyzes new and recent court decisions, public laws and Federal regulations for their impact on SSA complaints processing.

8. Directs special projects and studies of the various aspects of SSA's nationwide discrimination complaints process and ADR process to evaluate the overall effectiveness of the EO program. Directs the analysis of trends observed during projects and studies and implements new procedures as required.

9. Provides the authoritative interpretations on legal, regulatory and technical information regarding discrimination complaints to SSA management nationwide.

10. Reviews non-SSA EO issuances, EEOC and court decisions for applicability to SSA policy statements. Develops instructions and guidelines to transmit or implement EO policy decisions in SSA.

F. The Center for Disability Services (S7EG)

1. Provides program direction and guidance on a variety of issues pertaining to reasonable accommodation for employees with disabilities.

2. Evaluates and interprets policies and procedures and develops and recommends a range of alternatives for the solution of policy issues.

3. Directs and implements an SSA-wide program for providing readers, sign language interpreters, personal assistants, specialized equipment, assistive devices and selective placement.

4. Provides advice and assistance to all SSA components on agency-wide goals and objectives regarding the equal employment of people with disabilities throughout SSA.

5. Plans, conducts and coordinates multidisciplinary projects to resolve EO problems of a broad scope and provides leadership in the development of nationwide guidelines and/or policies and procedures also having national implications.

6. Administers the Program for Employees with Disabilities.

Subchapter S7G

Office of Training

Section S7G.10 The Office of Training—(Organization):

The Office of Training under the leadership of the Associate Commissioner, Office of Training (OT), includes:

Retitle A., from “The Director, Office of Training (S7G)” to “The Associate Commissioner, Office of Training (S7G).”

Reletter B to C.

Retitle C, from “The Immediate Office of the Director” to “The Immediate Office of the Associate Commissioner, Office of Training.”

Establish:

B. The Deputy Associate Commissioner, Office of Training (S7G).

D. The Center for Employee and Leadership Development (S7GK).

E. The Center for Curricula Development and Delivery (S7GL).

F. The Center for Training Technology (S7GM).

Section S7G.20 The Office of Training—(Functions):

A. The Associate Commissioner, Office of Training (S7G) is directly responsible to the Deputy Commissioner, Human Resources for carrying out OT's mission and for providing general supervision to the major component's of OT.

B. The Deputy Associate Commissioner, OT (S7G) assists the Associate Commissioner in carrying out his/her responsibilities and performs other duties as the Associate Commissioner may prescribe.

C. Replace in its entirety:

The Immediate Office of the Associate Commissioner, Office of Training (S7G) provides the Associate Commissioner with staff assistance on the full range of his/her responsibilities. It provides the Associate Commissioner with administrative and technical staff assistance. The Associate Commissioner's immediate administrative and technical staff plan, direct, coordinate and administer the activities relative to planning and executing budget activities. The staff interprets OPM training policies and formulate SSA training policy and procedures; maintains the Administration Instructions Manual System related to training policy; acts as OT Liaison with the Office of Personnel on such personnel matters as classification, position management, staffing, recruitment, performance management, and awards; and provides overall support and coordination to the training function. Coordinate travel, training and conference attendance for office staff.

D. Add:

The Center for Employee and Leadership Development (S7GK).

1. Manages SSA's national career and leadership development programs from the highest executive levels of SSA managers (SES) to programs for non-management employees.

2. Has Agency-wide responsibility for national training curriculum to provide general skills training, including related developmental activities for non-supervisory personnel.

3. Directs, designs, develops, implements, conducts and evaluates all SSA supervisory, managerial and executive-level training for SSA's newly promoted and seasoned managers.

4. Conducts ongoing research to identify the best approaches to training in the areas of management, general, and systems-support training and in the area of career development programs. Administers contractor support.

5. Provides office automation support and consultant services for all of OT, Deputy Commissioner's office and training classrooms.

6. Directs, designs, develops and implements training to support Agency-wide computer software acquisitions, and administrative initiatives.

E. Add:

Center for Curricula Development and Delivery (S7GL).

1. Manages the conversion and provision of training materials in various delivery media; ensures accessibility of all training materials for employees with disabilities.

2. Directs the design, development, implementation and evaluation of disability related programmatic/technical training to meet the needs of SSA direct-service employees and components Agency-wide and the Disability Determination Services, including entry-level training. This includes support for all Agency-wide Accelerated Electronic Disability initiatives.

3. Directs the design, development, implementation and evaluation of Title II Retirement, Survivors and Auxiliary and Medicare related programmatic/technical training to meet the needs of SSA direct-service employees and components Agency-wide, including entry-level training, advanced training programs, and programmatic systems training.

4. Directs the design, development, implementation and evaluation of Title XVI Supplemental Security Income related programmatic/technical training to meet the needs of SSA direct-service employees and components Agency-wide, including entry-level training programs, advanced training programs, and programmatic systems training.

5. Develops guidelines and procedures to determine technical/programmatic training needs in all areas of responsibility, and reviews technical training programs Agency-wide.

6. Responsible for streamlining procedures for printing and delivery of training course materials via E-print.

7. Initiates independent studies and analyses to anticipate and identify new or changing programmatic or other training approaches in a dynamic organizational environment, and designs, develops and implements programs geared to new training delivery technologies and approaches.

F. Add:

The Center for Training Technology (S7GM).

1. Directs, designs, develops and manages SSA's Interactive Video Teletraining System for SSA employees and State DDSs.

2. Conducts ongoing research and evaluation to identify automated technologies and training delivery methods (e.g., Interactive Video Teletraining, internet and intranet, training to the desktop, etc.) and instructional methodologies for application to training throughout SSA.

3. Monitors and evaluates Agency training and developmental activities to ensure desired results and effects through the Training Evaluation System.

4. Manages the evaluation and implementation of new technologies and training methods such as the use of distance learning and training to the desktop.

5. Manages special training initiatives such as the SSA Online University, knowledge management, E-learning initiatives and training administration.

6. Administers contractor support.

7. Manages office automation training efforts to provide basic LAN user training, electronic course information training for client server technology. Manages OT's training web site that includes a wide range of topics and materials.

Subchapter T

The Office of the Strategic Officer

Add the SAC Code “TJ” to the subchapter heading, the Mission, Organization, and Functions as follows:

Subchapter TJ

The Office of the Strategic Officer

Section TJ.00 The Office of the Chief Strategic Officer—(Mission):

Section TJ.10 The Office of the Chief Strategic Officer—(Organization):

Section TJ.20 The Office of the Chief Strategic Officer—(Functions):

Delete from E, The Office of Workforce Analysis, the third sentence from the end of the paragraph that reads: “It develops, analyzes and interprets workforce-forecasting data and projects future workforce needs, including the types of skills and positions required.”

Dated: November 26, 2003.
Jo Anne B. Barnhart,
Commissioner of Social Security.

[FR Doc. 03-30546 Filed 12-9-03; 8:45 am]

BILLING CODE 4191-02-P